DEPARTMENT OF AGRICULTURE

Food and Nutrition Service

7 CFR Parts 210, 220 and 226

[FNS-2011-0029]

RIN 0584-AE18

CACFP Meal Pattern Revisions Related to the Healthy, Hunger-Free Kids Act of 2010; Technical Amendments

AGENCY: Food and Nutrition Service (FNS), USDA.

ACTION: Technical amendments.

SUMMARY: On October 1, 2021, the requirement to credit grains served in the Child and Adult Care Food Program (CACFP) in “ounce equivalents” was implemented. This action also applied to the crediting of grains served to infants and toddlers in the National School Lunch and School Breakfast Programs. This document corrects the final regulations to align meal pattern tables and corresponding endnotes with regulatory requirements.

DATES: Effective October 18, 2021 and applicable on October 1, 2021.

FOR FURTHER INFORMATION CONTACT: Alice McKenney, Branch Chief, Child Nutrition Division, 703-305-2590.

SUPPLEMENTARY INFORMATION: This is a summary of technical amendments to CACFP Meal Pattern Revisions Related to the Healthy, Hunger-Free Kids Act of 2010, published April 25, 2016 (81 FR 24347) and Delayed Implementation of Grains Ounce Equivalents in the Child and Adult Care Food Program, published September 25, 2019 (84 FR 50287), which allowed a two-year delay of crediting of grains by ounce equivalents, until October 1, 2021. FNS is making changes to update the infant meal pattern tables and endnotes at 7 CFR 210.10(o), 210.10(q), 220.8(p), and 226.20(c); preschool meal pattern tables and endnotes at 7 CFR 210.10(o), 210.10(p), and 220.8(o); and meal pattern tables, text and endnotes for infants, children and adult participants at 7 CFR 226.20(c). These changes are consistent with regulatory requirements implemented as of October 1, 2021.

List of Subjects

7 CFR Part 210

Grant programs—education, Grant programs—health, Infants and children, Nutrition, Penalties, Reporting and recordkeeping requirements, School breakfast and lunch programs, Surplus agricultural commodities.

7 CFR Part 220

Grant programs—education, Grant programs—health, Infants and children, Nutrition, Reporting and recordkeeping requirements, School breakfast and lunch programs.

7 CFR Part 226

Accounting, Aged, Day care, Food assistance programs, Grant programs, Grant programs—health, American Indians, Individuals with disabilities, Infants and children, Intergovernmental relations, Loan programs, Reporting and recordkeeping requirements, Surplus agricultural commodities.

Accordingly, 7 CFR parts 210, 220, and 226 are amended by making the following technical amendments:

PART 210—NATIONAL SCHOOL LUNCH PROGRAM

1. The authority citation for part 210 continues to read as follows:

Authority: 42 U.S.C. 1751-1760, 1779.

2. Amend § 210.10 by revising the tables in paragraphs (o)(3)(ii), (o)(4)(ii), (p)(2) and (q)(2) to read as follows:

§ 210.10 Meal requirements for lunches and requirements for afterschool snacks.

* * * * *

(o) * * *

(3) * * *

(ii) * * *

Table 5 to Paragraph (o)(3)(ii)—Preschool Snack Meal Pattern
Food components and food items 1 | Minimum quantities: Ages 1-2 | Minimum quantities: Ages 3-5
Fluid Milk ² | 4 fluid ounces | 4 fluid ounces.
Meat/meat alternates (edible portion as served):
Lean meat, poultry, or fish | ½ ounce | ½ ounce.
Tofu, soy products, or alternate protein products ³ | ½ ounce | ½ ounce.
Cheese | ½ ounce | ½ ounce.
Large egg | ½ | ½.
Cooked dry beans or peas | ⅛ cup | ⅛ cup.
Peanut butter or soy nut butter or other nut or seed butters | 1 Tbsp | 1 Tbsp.
Yogurt, plain or flavored unsweetened or sweetened ⁴ | 2 ounces or ¼ cup | 2 ounces or ¼ cup.
Peanuts, soy nuts, tree nuts, or seeds | ½ ounce | ½ ounce.
Vegetables ⁵ | ½ cup | ½ cup.
Fruits ⁵ | ½ cup | ½ cup.
Grains (oz eq) 6 7 8 | ½ ounce equivalent | ½ ounce equivalent.
Endnotes:
¹ Select two of the five components for a reimbursable snack. Only one of the two components may be a beverage.
² Must be unflavored whole milk for children age one. Must be unflavored low-fat (1 percent) or unflavored fat-free (skim) milk for children two through five years old.
³ Alternate protein products must meet the requirements in Appendix A to Part 226 of this chapter.
⁴ Yogurt must contain no more than 23 grams of total sugars per 6 ounces.
⁵ Pasteurized full-strength juice may only be used to meet the vegetable or fruit requirement at one meal, including snack, per day.
⁶ At least one serving per day, across all eating occasions, must be whole grain-rich. Grain-based desserts do not count towards meeting the grains requirement.
⁷ Breakfast cereals must contain no more than 6 grams of sugar per dry ounce (no more than 21.2 grams sucrose and other sugars per 100 grams of dry cereal).
⁸ Refer to FNS guidance for additional information on crediting different types of grains.

(4) * * *

(ii) * * *

Table 6 to Paragraph (o)(4)(ii)—Infant Snack Meal Pattern
Birth through 5 months | 6 through 11 months
4-6 fluid ounces breastmilk ¹ or formula ² | 2-4 fluid ounces breastmilk ¹ or
| formula; ² and
| 0-½ ounce equivalent bread; 3 4 or
| 0-¼ ounce equivalent crackers; 3 4 or
| 0-½ ounce equivalent infant cereal 2 4 or ready-to-eat breakfast cereal; 3 4 5 6 and
| 0-2 tablespoons vegetable or fruit, or a combination of both.6 7
¹ Breastmilk or formula, or portions of both, must be served; however, it is recommended that breastmilk be served in place of formula from birth through 11 months. For some breastfed infants who regularly consume less than the minimum amount of breastmilk per feeding, a serving of less than the minimum amount of breastmilk may be offered, with additional breastmilk offered at a later time if the infant will consume more.
² Infant formula and dry infant cereal must be iron-fortified.
³ A serving of grains must be whole grain-rich, enriched meal, or enriched flour.
⁴ Refer to FNS guidance for additional information on crediting different types of grains.
⁵ Breakfast cereals must contain no more than 6 grams of sugar per dry ounce (no more than 21.2 grams sucrose and other sugars per 100 grams of dry cereal).
⁶ A serving of this component is required when the infant is developmentally ready to accept it.
⁷ Fruit and vegetable juices must not be served.

(p) * * *

(2) * * *

Table 7 to Paragraph (p)(2)—Preschool Lunch Meal Pattern
Food components and food items 1 | Minimum quantities: Ages 1-2 | Minimum quantities: Ages 3-5
Fluid Milk ² | 4 fluid ounces | 6 fluid ounces.
Meat/meat alternates (edible portion as served):
Lean meat, poultry, or fish | 1 ounce | 1½ ounces.
Tofu, soy products, or alternate protein products ³ | 1 ounce | 1½ ounces.
Cheese | 1 ounce | 1½ ounces.
Large egg | ½ | ¾.
Cooked dry beans or peas | ¼ cup | ⅜ cup.
Peanut butter or soy nut butter or other nut or seed butters | 2 Tbsp | 3 Tbsp.
Yogurt, plain or flavored unsweetened or sweetened ⁴ | 4 ounces or ½ cup | 6 ounces or ¾ cup.
The following may be used to meet no more than 50% of the requirement: Peanuts, soy nuts, tree nuts, or seeds, as listed in program guidance, or an equivalent quantity of any combination of the above meat/meat alternates (1 ounce of nuts/seeds = 1 ounce of cooked lean meat, poultry, or fish) | ½ ounce = 50% | ¾ ounce = 50%.
Vegetables 5 6 | ⅛ cup | ¼ cup.
Fruits 5 6 | ⅛ cup | ¼ cup.
Grains (oz eq) 7 8 9 | ½ ounce equivalent | ½ ounce equivalent.
Endnotes:
¹ Must serve all five components for a reimbursable meal.
² Must be unflavored whole milk for children age one. Must be unflavored low-fat (1 percent) or unflavored fat-free (skim) milk for children two through five years old.
³ Alternate protein products must meet the requirements in Appendix A to Part 226 of this chapter.
⁴ Yogurt must contain no more than 23 grams of total sugars per 6 ounces.
⁵ Pasteurized full-strength juice may only be used to meet the vegetable or fruit requirement at one meal, including snack, per day.
⁶ A vegetable may be used to meet the entire fruit requirement. When two vegetables are served at lunch or supper, two different kinds of vegetables must be served.
⁷ At least one serving per day, across all eating occasions, must be whole grain-rich. Grain-based desserts do not count towards the grains requirement.
⁸ Refer to FNS guidance for additional information on crediting different types of grains.
⁹ Breakfast cereals must contain no more than 6 grams of sugar per dry ounce (no more than 21.2 grams sucrose and other sugars per 100 grams of dry cereal).

(q) * * *

(2) * * *

Table 8 to Paragraph (q)(2)—Infant Lunch Meal Pattern
Birth through 5 months | 6 through 11 months
4-6 fluid ounces breastmilk ¹ or formula ² | 6-8 fluid ounces breastmilk ¹ or formula; ² and
| 0-½ ounce equivalent infant cereal; 2 3 or
| 0-4 tablespoons meat, fish, poultry, whole egg, cooked dry beans, or cooked dry peas; or
| 0-2 ounces of cheese; or
| 0-4 ounces (volume) of cottage cheese; or
| 0-4 ounces or ½ cup of yogurt; ⁴ or a combination of the above; ⁵ and
| 0-2 tablespoons vegetable or fruit, or a combination of both.5 6
¹ Breastmilk or formula, or portions of both, must be served; however, it is recommended that breastmilk be served in place of formula from birth through 11 months. For some breastfed infants who regularly consume less than the minimum amount of breastmilk per feeding, a serving of less than the minimum amount of breastmilk may be offered, with additional breastmilk offered at a later time if the infant will consume more.
² Infant formula and dry infant cereal must be iron-fortified.
³ Refer to FNS guidance for additional information on crediting different types of grains.
⁴ Yogurt must contain no more than 23 grams of total sugars per 6 ounces.
⁵ A serving of this component is required when the infant is developmentally ready to accept it.
⁶ Fruit and vegetable juices must not be served.

PART 220—SCHOOL BREAKFAST PROGRAM

3. The authority citation for part 220 continues to read as follows:

Authority: 42 U.S.C. 1773, 1779, unless otherwise noted.

4. Amend § 220.8 by revising the tables in (o)(2) and (p)(2) to read as follows:

§ 220.8 Meal requirements for breakfasts.

* * * * *

(o) * * *

(2) * * *

Table 4 to Paragraph (o)(2)—Preschool Breakfast Meal Pattern
Food components and food items 1 | Minimum quantities: Ages 1-2 | Minimum quantities: Ages 3-5
Fluid Milk ² | 4 fluid ounces | 6 fluid ounces.
Vegetables, fruits, or portions of both ³ | ¼ cup | ½ cup.
Grains (oz eq) 4 5 6 7 | ½ ounce equivalent | ½ ounce equivalent.
Endnotes:
¹ Must serve all three components for a reimbursable meal.
² Must be unflavored whole milk for children age one. Must be unflavored low-fat (1 percent) or unflavored fat-free (skim) milk for children two through five years old.
³ Pasteurized full-strength juice may only be used to meet the vegetable or fruit requirement at one meal, including snack, per day.
⁴ At least one serving per day, across all eating occasions, must be whole grain-rich. Grain-based desserts do not count towards meeting the grains requirement.
⁵ Meat and meat alternates may be used to meet the entire grains requirement a maximum of three times a week. One ounce of meat and meat alternates is equal to one ounce equivalent of grains.
⁶ Breakfast cereals must contain no more than 6 grams of sugar per dry ounce (no more than 21.2 grams sucrose and other sugars per 100 grams of dry cereal).
⁷ Refer to FNS guidance for additional information on crediting different types of grains.

(p) * * *

(2) * * *

Table 5 to Paragraph (p)(2)—Infant Breakfast Meal Pattern
Birth through 5 months | 6 through 11 months
4-6 fluid ounces breastmilk ¹ or formula ² | 6-8 fluid ounces breastmilk ¹ or formula; ² and
| 0-½ ounce equivalent infant cereal; 2 3 or
| 0-4 tablespoons meat, fish, poultry, whole egg, cooked dry beans, or cooked dry peas; or
| 0-2 ounces of cheese; or
| 0-4 ounces (volume) of cottage cheese; or
| 0-4 ounces or ½ cup of yogurt; ⁴ or a combination of the above; ⁵ and
| 0-2 tablespoons vegetable or fruit, or a combination of both. 5 6
¹ Breastmilk or formula, or portions of both, must be served; however, it is recommended that breastmilk be served in place of formula from birth through 11 months. For some breastfed infants who regularly consume less than the minimum amount of breastmilk per feeding, a serving of less than the minimum amount of breastmilk may be offered, with additional breastmilk offered at a later time if the infant will consume more.
² Infant formula and dry infant cereal must be iron-fortified.
³ Refer to FNS guidance for additional information on crediting different types of grains.
⁴ Yogurt must contain no more than 23 grams of total sugars per 6 ounces.
⁵ A serving of this component is required when the infant is developmentally ready to accept it.
⁶ Fruit and vegetable juices must not be served.

* * * * *

PART 226—CHILD AND ADULT CARE FOOD PROGRAM

5. The authority citation for 7 CFR part 226 continues to read as follows:

Authority: Secs. 9, 11, 14, 16, and 17, Richard B. Russell National School Lunch Act, as amended, 42 U.S.C. 1758, 1759a, 1762a, 1765 and 1766.

6. Amend § 226.20 by revising paragraphs (b)(4)(ii)(A), (b)(4)(ii)(B), and the tables in paragraphs (b)(5), (c)(1), (c)(2), and (c)(3) to read as follows:

§ 226.20 Requirements for meals.

* * * * *

(b) * * *

(4) * * *

(ii) * * *

(A) Breakfast, lunch, or supper. Six to 8 fluid ounces of breastmilk or iron-fortified infant formula, or portions of both; and 0 to ½ ounce equivalent of iron-fortified dry infant cereal; or 0-4 tablespoons meat, fish, poultry, whole egg, cooked dry beans, or cooked dry peas; or 0 to 2 ounces (weight) of cheese; or 0 to 4 ounces (volume) of cottage cheese; or 0 to 4 ounces of yogurt; and 0 to 2 tablespoons of vegetable, fruit, or portions of both. Fruit juices and vegetable juices must not be served.

(B) Snack. Two to 4 fluid ounces of breastmilk or iron-fortified infant formula; and 0 to ½ ounce equivalent bread; or 0-¼ ounce equivalent crackers; or 0-½ ounce equivalent infant cereal or ready-to-eat cereals; and 0 to 2 tablespoons of vegetable or fruit, or portions of both. Fruit juices and vegetable juices must not be served. A serving of grains must be whole grain-rich, enriched meal, or enriched flour.

(5) * * *

Table 1 to Paragraph (b)(5)—Infant Meal Patterns
Infants | Birth through 5 months | 6 through 11 months
Breakfast, Lunch, or Supper | 4-6 fluid ounces breastmilk ¹ or formula ² | 6-8 fluid ounces breastmilk ¹ or formula; ² and
|  | 0-½ ounce equivalent infant cereal; 2 3 or
|  | 0-4 tablespoons meat, fish, poultry, whole egg, cooked dry beans, or cooked dry peas; or
|  | 0-2 ounces of cheese; or
|  | 0-4 ounces (volume) of cottage cheese; or
|  | 0-4 ounces or ½ cup of yogurt; ⁴ or a combination of the above; ⁵ and
|  | 0-2 tablespoons vegetable or fruit, or a combination of both 5 6
Snack | 4-6 fluid ounces breastmilk ¹ or formula ² | 2-4 fluid ounces breastmilk ¹ or formula; ² and
|  | 0-½ ounce equivalent bread; 3 7 or
|  | 0-¼ ounce equivalent crackers; 3 7 or
|  | 0-½ ounce equivalent infant cereal 2 3 or ready-to-eat breakfast cereal; 3 5 7 8 and
|  | 0-2 tablespoons vegetable or fruit, or a combination of both.4 5 6
¹ Breastmilk or formula, or portions of both, must be served; however, it is recommended that breastmilk be served in place of formula from birth through 11 months. For some breastfed infants who regularly consume less than the minimum amount of breastmilk per feeding, a serving of less than the minimum amount of breastmilk may be offered, with additional breastmilk offered at a later time if the infant will consume more.
² Infant formula and dry infant cereal must be iron-fortified.
³ Refer to FNS guidance for additional information on crediting different types of grains.
⁴ Yogurt must contain no more than 23 grams of total sugars per 6 ounces.
⁵ A serving of this component is required when the infant is developmentally ready to accept it.
⁶ Fruit and vegetable juices must not be served.
⁷ A serving of grains must be whole grain-rich, enriched meal, or enriched flour.
⁸ Breakfast cereals must contain no more than 6 grams of sugar per dry ounce (no more than 21.2 grams sucrose and other sugars per 100 grams of dry cereal).

* * * * *

(c) * * *

(1) * * *

Table 2 to Paragraph (c)(1)—Child and Adult Care Food Program Breakfast
[Select the appropriate components for a reimbursable meal]
Food components and food items ¹ | Minimum quantities: Ages 1-2 | Minimum quantities: Ages 3-5 | Minimum quantities: Ages 6-12 | Minimum quantities: Ages 13-18 ² (at-risk afterschool programs and emergency shelters) | Minimum quantities: Adult participants
Fluid Milk ³ | 4 fluid ounces | 6 fluid ounces | 8 fluid ounces | 8 fluid ounces | 8 fluid ounces.
Vegetables, fruits, or portions of both ⁴ | ¼ cup | ½ cup | ½ cup | ½ cup | ½ cup.
Grains (oz. eq.) 5 6 7 8 | ½ ounce equivalent | ½ ounce equivalent | 1 ounce equivalent | 1 ounce equivalent | 2 ounce equivalents.
Endnotes:
¹ Must serve all three components for a reimbursable meal. Offer versus serve is an option for at-risk afterschool participants.
² Larger portion sizes than specified may need to be served to children 13 through 18 years old to meet their nutritional needs.
³ Must be unflavored whole milk for children age one. Must be unflavored low-fat (1 percent fat or less) or unflavored fat-free (skim) milk for children two through five years old. Must be unflavored low-fat (1 percent fat or less), unflavored or flavored fat-free (skim) milk for children 6 years old and older and adults. For adult participants, 6 ounces (weight) or ¾ cup (volume) of yogurt may be used to meet the equivalent of 8 ounces of fluid milk once per day when yogurt is not served as a meat alternate in the same meal.
⁴ Pasteurized full-strength juice may only be used to meet the vegetable or fruit requirement at one meal, including snack, per day.
⁵ At least one serving per day, across all eating occasions, must be whole grain-rich. Grain-based desserts do not count towards meeting the grains requirement.
⁶ Meat and meat alternates may be used to meet the entire grains requirement a maximum of three times a week. One ounce of meat and meat alternates is equal to one ounce equivalent of grains.
⁷ Refer to FNS guidance for additional information on crediting different types of grains.
⁸ Breakfast cereals must contain no more than 6 grams of sugar per dry ounce (no more than 21.2 grams sucrose and other sugars per 100 grams of dry cereal).

(2) * * *

Table 3 to Paragraph (c)(2)—Child and Adult Care Food Program Lunch and Supper
[Select the appropriate components for a reimbursable meal]
Food components and food items ¹ | Minimum quantities: Ages 1-2 | Minimum quantities: Ages 3-5 | Minimum quantities: Ages 6-12 | Minimum quantities: Ages 13-18 ² (at-risk afterschool programs and emergency shelters) | Minimum quantities: Adult participants
Fluid Milk ³ | 4 fluid ounces | 6 fluid ounces | 8 fluid ounces | 8 fluid ounces | 8 fluid ounces.⁴
Meat/meat alternates (edible portion as served):
Lean meat, poultry, or fish | 1 ounce | 1½ ounces | 2 ounces | 2 ounces | 2 ounces.
Tofu, soy products, or alternate protein products ⁵ | 1 ounce | 1 ½ ounces | 2 ounces | 2 ounces | 2 ounces.
Cheese | 1 ounce | 1 ½ ounces | 2 ounces | 2 ounces | 2 ounces.
Large egg | ½ | ¾ | 1 | 1 | 1.
Cooked dry beans or peas | ¼ cup | ⅜ cup | ½ cup | ½ cup | ½ cup.
Peanut butter or soy nut butter or other nut or seed butters | 2 Tbsp | 3 Tbsp | 4 Tbsp | 4 Tbsp | 4 Tbsp.
Yogurt, plain or flavored unsweetened or sweetened ⁶ | 4 ounces or ½ cup | 6 ounces or ¾ cup | 8 ounces or 1 cup | 8 ounces or 1 cup | 8 ounces or 1 cup.
The following may be used to meet no more than 50% of the requirement: |  |  |  |  |
Peanuts, soy nuts, tree nuts, or seeds, as listed in program guidance, or an equivalent quantity of any combination of the above meat/meat alternates (1 ounce of nuts/seeds = 1 ounce of cooked lean meat, poultry, or fish) | ½ ounce = 50% | ¾ ounce = 50% | 1 ounce = 50% | 1 ounce = 50% | 1 ounce = 50%.
Vegetables 7 8 | ⅛ cup | ¼ cup | ½ cup | ½ cup | ½ cup.
Fruits 7 8 | ⅛ cup | ¼ cup | ¼ cup | ¼ cup | ½ cup.
Grains (oz eq) 9 10 11 | ½ ounce equivalent | ½ ounce equivalent | 1 ounce equivalent | 1 ounce equivalent | 2 ounce equivalents.
Endnotes:
¹ Must serve all five components for a reimbursable meal. Offer versus serve is an option for at-risk afterschool and adult participants.
² Larger portion sizes than specified may need to be served to children 13 through 18 years old to meet their nutritional needs.
³ Must be unflavored whole milk for children age one. Must be unflavored low-fat (1 percent fat or less) or unflavored fat-free (skim) milk for children two through five years old. Must be unflavored low-fat (1 percent fat or less) or unflavored or flavored fat-free (skim) milk for children 6 years old and older and adults. For adult participants, 6 ounces (weight) or ¾ cup (volume) of yogurt may be used to meet the equivalent of 8 ounces of fluid milk once per day when yogurt is not served as a meat alternate in the same meal.
⁴ A serving of fluid milk is optional for suppers served to adult participants.
⁵ Alternate protein products must meet the requirements in Appendix A to part 226 of this chapter.
⁶ Yogurt must contain no more than 23 grams of total sugars per 6 ounces.
⁷ Pasteurized full-strength juice may only be used to meet the vegetable or fruit requirement at one meal, including snack, per day.
⁸ A vegetable may be used to meet the entire fruit requirement. When two vegetables are served at lunch or supper, two different kinds of vegetables must be served.
⁹ At least one serving per day, across all eating occasions, must be whole grain-rich. Grain-based desserts do not count towards the grains requirement.
¹⁰ Refer to FNS guidance for additional information on crediting different types of grains.
¹¹ Breakfast cereals must contain no more than 6 grams of sugar per dry ounce (no more than 21.2 grams sucrose and other sugars per 100 grams of dry cereal).

(3) * * *

Table 4 to Paragraph (c)(3)—Child and Adult Care Food Program Snack
[Select the two of the five components for a reimbursable meal]
Food components and food items ¹ | Minimum quantities: Ages 1-2 | Minimum quantities: Ages 3-5 | Minimum quantities: Ages 6-12 | Minimum quantities: Ages 13-18 ² (at-risk afterschool programs and emergency shelters) | Minimum quantities: Adult participants
Fluid Milk ³ | 4 fluid ounces | 6 fluid ounces | 8 fluid ounces | 8 fluid ounces | 8 fluid ounces.
Meat/meat alternates (edible portion as served):
Lean meat, poultry, or fish | ½ ounce | ½ ounce | 1 ounce | 1 ounce | 1 ounce.
Tofu, soy products, or alternate protein products ⁴ | ½ ounce | ½ ounce | 1 ounce | 1 ounce | 1 ounce.
Cheese | ½ ounce | ½ ounce | 1 ounce | 1 ounce | 1 ounce.
Large egg | ½ | ½ | ½ | ½ | ½.
Cooked dry beans or peas | ⅛ cup | ⅛ cup | ¼ cup | ¼ cup | ¼ cup.
Peanut butter or soy nut butter or other nut or seed butters | 1 Tbsp | 1 Tbsp | 2 Tbsp | 2 Tbsp | 2 Tbsp.
Yogurt, plain or flavored unsweetened or sweetened ⁵ | 2 ounces or ½ cup | 2 ounces or ½ cup | 4 ounces or ¾ cup | 4 ounces or ¾ cup | 4 ounces or ½ cup.
Peanuts, soy nuts, tree nuts, or seeds | ½ ounce | ½ ounce | 1 ounce | 1 ounce | 1 ounce.
Vegetables ⁶ | ½ cup | ½ cup | ¾ cup | ¾ cup | ½ cup.
Fruits ⁶ | ½ cup | ½ cup | ¾ cup | ¾ cup | ½ cup.
Grains (oz. eq.) 7 8 9 | ½ ounce equivalent | ½ ounce equivalent | 1 ounce equivalent | 1 ounce equivalent | 1 ounce equivalent.
Endnotes:
¹ Select two of the five components for a reimbursable snack. Only one of the two components may be a beverage.
² Larger portion sizes than specified may need to be served to children 13 through 18 years old to meet their nutritional needs.
³ Must be unflavored whole milk for children age one. Must be unflavored low-fat (1 percent fat or less) or unflavored fat-free (skim) milk for children two through five years old. Must be unflavored low-fat (1 percent fat or less) or unflavored or flavored fat-free (skim) milk for children 6 years old and older and adults. For adult participants, 6 ounces (weight) or ¾ cup (volume) of yogurt may be used to meet the equivalent of 8 ounces of fluid milk once per day when yogurt is not served as a meat alternate in the same meal.
⁴ Alternate protein products must meet the requirements in Appendix A to part 226 of this chapter.
⁵ Yogurt must contain no more than 23 grams of total sugars per 6 ounces.
⁶ Pasteurized full-strength juice may only be used to meet the vegetable or fruit requirement at one meal, including snack, per day.
⁷ At least one serving per day, across all eating occasions, must be whole grain-rich. Grain-based desserts do not count towards the grains requirement.
⁸ Refer to FNS guidance for additional information on crediting different types of grains.
⁹ Breakfast cereals must contain no more than 6 grams of sugar per dry ounce (no more than 21.2 grams sucrose and other sugars per 100 grams of dry cereal).

* * * * *

Cynthia Long,
Administrator, Food and Nutrition Service.

[FR Doc. 2021-22072 Filed 10-14-21; 11:15 am]

BILLING CODE 3410-30-P